NATIONAL SCIENCE FOUNDATION

Special Emphasis Panel in Electrical and Communications Systems; Notice of Meeting

In accordance with the Federal Advisory Committee Act (Pub. Law 92-463, as amended), the National Science Foundation announces the following meeting:

Name: Special Emphasis Panel in Electrical and Communications systems (1196)

Dates: April 27-28, 2000; 8:30 a.m.-5 p.m.

Place: Room 730, National Science Foundation, 4201 Wilson Boulevard, Arlington, VA.

Type of Meeting: Closed.

Contact Person: Dr. Paul Werbos, Program Director, Control, Networks, and Computational Intelligence (CNCI), 4201 Wilson Boulevard, Room 675, Arlington, Virginia 22230, Phone 703-306-1339.

Purpose of Meeting: To provide advice and recommendations concerning proposals submitted to NSF for financial support.

Agenda: Review and evaluate **Regular Research** proposals as part of the selection process for awards.

Reason for Closing: The proposals being reviewed include information of a proprietary or confidential nature, including technical information; financial data, such as salaries; and personal information concerning individuals associated with the proposals. These matters are exempt under 5 U.S.C.552b(c),(4) and (6) of the Government in the Sunshine Act.

Dated: April 6, 2000.
Karen J. York,
Committee Management Officer.

[FR Doc. 00-9194 Filed 4-12-00; 8:45 am]

BILLING CODE 7555-01-M